DEPARTMENT OF LABOR

Occupational Safety and Health Administration

29 CFR Part 1915

[Docket No. S-051A]

RIN 1218-AC16

Updating National Consensus Standards in OSHA's Standard for Fire Protection in Shipyard Employment

AGENCY: Occupational Safety and Health Administration (OSHA), Department of Labor.

ACTION: Final rule; confirmation of effective date.

SUMMARY: OSHA is confirming the effective date of its direct final rule for shipyards that incorporated by reference 19 National Fire Protection Association (NFPA) standards. The direct final rule stated that it would become effective on January 16, 2007 unless significant adverse comment was received by November 16, 2006. No adverse comments were received. Therefore, the rule will become effective on January 16, 2007.

DATES: The direct final rule published on October 17, 2006 (71 FR 60843) is effective January 16, 2007. For the purpose of judicial review, OSHA considers January 3, 2007 as the date of issuance.

FOR FURTHER INFORMATION CONTACT: Press Inquiries: Kevin Ropp, OSHA Office of Communications, Room N-3647, U.S. Department of Labor, 200 Constitution Avenue, NW., Washington, DC 20210; telephone: (202) 693-1999. General and technical information: Jim Maddux, Director, Office of Maritime, Directorate of Standards and Guidance, Occupational Safety and Health Administration, U.S. Department of Labor, Room N-3609, 200 Constitution Avenue, NW., Washington, DC 20210; telephone (202) 693-1968.

ADDRESSES: In compliance with 28 U.S.C. 2112(a), OSHA designates the Associate Solicitor for Occupational Safety and Health as the recipient of petitions for review of the final standard. The Associate Solicitor may be contacted at the Office of the Solicitor, Room S-4004, U.S. Department of Labor, 200 Constitution Avenue, NW., Washington, DC 20210, telephone: (202) 693-5445.

SUPPLEMENTARY INFORMATION: This direct final rulemaking applies to shipyard employment as defined at 29 CFR 1915.4. It updates NFPA standards incorporated by reference in the shipyard fire protection standard (29 CFR Part 1915, Subpart P) issued by OSHA on September 15, 2004 by replacing the older versions of NFPA consensus standards with the most current versions (see 69 FR 55668).

On October 17, 2006, OSHA published a direct final rule in the Federal Register with a statement that the rule would go into effect unless a significant adverse comment was received within a specified period of time (see 71 FR 60843). An associated proposed rule was also published at the same time (see 71 FR 60932). In both the direct final rule and proposed rule notices, OSHA requested comments on all issues related to this action. OSHA received only one comment on the direct final rule, which supported the rulemaking. Since no adverse comments were received, the direct final rule will become effective on January 16, 2007.

As discussed in the October 17th direct final rule and the associated proposed rule, OSHA will not proceed with the proposed rule.

Authority and Signature

This document was prepared under the direction of Edwin G. Foulke, Jr., Assistant Secretary of Labor for Occupational Safety and Health, U.S. Department of Labor, 200 Constitution Avenue, NW., Washington, DC 20210. It is issued pursuant to sections 4, 6, and 8 of the Occupational Safety and Health Act of 1970 (29 U.S.C. 653, 655, 657), Secretary of Labor's Order 5-2002 (67 FR 65008); and 29 CFR part 1911.

Signed at Washington, DC this 18th day of December, 2006.
Edwin G. Foulke, Jr.,
Assistant Secretary of Labor.

[FR Doc. E6-22189 Filed 12-29-06; 8:45 am]

BILLING CODE 4510-26-P